FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 010071-045.

Title: Cruise Lines International Association Agreement.

Parties: A-Rosa Flussschiff GmbH; Acromas Shipping, Ltd./Saga Shipping; Aida Cruises; AMA Waterways; American Cruise Lines, Inc.; Aqua Expeditions Pte. Ltd.; Australian Pacific Touring Pty Ltd.; Avalon Waterways; Azamara Cruises; Carnival Cruise Lines; Celebrity Cruises, Inc.; Celestyal Cruises; Costa Cruise Lines; Compagnie Du Ponant; Croisieurope; Crystal Cruises; Cunard Line; Disney Cruise Line; Dream Cruises Management Ltd.; Emerald Waterways; French America Line; Hapag-Lloyd Kreuzfahrten Gmbh; Heritage River Journeys Pvt Ltd.; Holland America Line; Luftner Cruises; MSC Cruises; NCL Corporation; Oceania Cruises; P & O Cruises; P & O Cruises Australia; PandaW River Expeditions; Paul Gauguin Cruises; Pearl Seas Cruises; Princess Cruises; Pullmantur Cruises Ship Management Ltd.; Regent Seven Seas Cruises; Riviera Tours Ltd.; Royal Caribbean International; Scenic Luxury Cruises & Tours Ltd.; Seabourn Cruise Line; SeaDream Yacht Club; Shearings Holidays Ltd.; Silversea Cruises, Ltd.; Star Cruises (HK) Limited; St. Helena Line/Andrew Weir Shipping Ltd.; Tauck River Cruising; Thomson Cruises; Travelmarvel; Tui Cruises Gmbh; Uniworld River Cruises, Inc.; Venice Simplon-Orient-Express Ltd./Belmond; and Windstar Cruises.

Filing Party: Andre Picciurro, Esq. Kaye, Rose & Partners, LLP; Emerald Plaza, 402 West Broadway, Suite 1300; San Diego, CA 92101-3542.

Synopsis: The Amendment would update the Agreement membership and revise language in the Agreement regarding the election of the Chair and Vice Chair of the Agreement.

Agreement No.: 012476.

Title: HSDG/HLAG/CMA CGM Slot Charter Agreement.

Parties: Hamburg Sud; Hapag-Lloyd AG; and CMA CGM S.A.

Filing Party: Wayne Rohde; Cozen O'Connor; 1200 19th Street NW., Washington, DC 20036.

Synopsis: The Agreement authorizes HSDG and HLAG to charter space to CMA CGM in the trade between the U.S. East Coast on the one hand, and Colombia, Ecuador, Peru and Chile on the other hand. The Parties have requested expedited review.

Agreement No.: 012477.

Title: CMA CGM/HLAG U.S.-West Med Slot Charter Agreement.

Parties: CMA CGM, S.A.; and Hapag Lloyd AG.

Filing Party: Draughn B. Arbona, Esq; CMA CGM (America) LLC; 5701 Lake Wright Drive; Norfolk, VA 23502.

Synopsis: This Agreement authorizes CMA CGM to charter space to HLAG in the trade between Italy and Spain on the one hand, and the U.S. East Coast on the other hand.

Agreement No.: 012478.

Title: NYK/OOCL Space Charter Agreement.

Parties: Nippon Yusen Kaisha and Orient Overseas Container Line Limited.

Filing Party: Joshua P. Stein; Cozen O'Connor; 1200 Nineteenth Street NW., Washington, DC 20036.

Synopsis: The Agreement authorizes NYK to charter space to OOCL on the service referred to as the PS1 and operated under THE Alliance Agreement (FMC Agreement No. 012439) and to enter into arrangements related to the chartering of such space.

By Order of the Federal Maritime Commission.
Dated: March 31, 2017.
Rachel E. Dickon,
Assistant Secretary.

[FR Doc. 2017-06734 Filed 4-4-17; 8:45 am]

BILLING CODE 6731-AA-P